FEDERAL COMMUNICATIONS COMMISSION

47 CFR Part 73

[MB Docket No. 21-127; RM-11894; DA 21-700; FR ID 34398]

Television Broadcasting Services Schenectady, New York

AGENCY: Federal Communications Commission (FCC).

ACTION: Final rule.

SUMMARY: On April 5, 2021, the Media Bureau, Video Division (Bureau) issued a Notice of Proposed Rulemaking (NPRM) in response to a petition for rulemaking filed by WRGB Licensee, LLC (Petitioner), the licensee of WRGB, channel 6 (CBS), Schenectady, New York, requesting the substitution of channel 35 for channel 6 at Schenectady in the DTV Table of Allotments. For the reasons set forth in the Report and Order referenced below, the Bureau amends FCC regulations to substitute channel 35 for channel 6 at Schenectady.

DATES: Effective June 29, 2021.

FOR FURTHER INFORMATION CONTACT: Joyce Bernstein, Media Bureau, at (202) 418-1647 or Joyce.Bernstein@fcc.gov.

SUPPLEMENTARY INFORMATION: This is a synopsis of the Commission's Report and Order, MB Docket No. 21-127; RM-11894; DA 21-700, adopted and released on June 16, 2021. The full text of this document is available for download on the FCC's website at https://docs.fcc.gov/public/attachments/DA-21-700A1.pdf. To request materials in accessible formats for people with disabilities (braille, large print, electronic files, audio format), send an email to fcc504@fcc.gov or call the Consumer & Governmental Affairs Bureau at 202-418-0530 (voice), 202-418-0432 (tty).

The proposed rule was published at 86 FR 21681 on April 23, 2021. The Petitioner filed comments in support of the petition reaffirming its commitment to apply for channel 35. No other comments were filed. The Petitioner states that VHF channels have certain propagation characteristics which may cause reception issues for some viewers. In addition, WRGB has received numerous complaints from viewers unable to receive the Station's over-the-air signal, despite being able to receive signals from other stations. While the proposed channel 35 noise limited contour does not completely encompass the relevant channel 6 noise limited contour, WRGB is a CBS affiliate and there are three other CBS affiliated stations that serve some portion of the loss area. In addition, the Petitioner submitted an analysis, using the Commission's TVStudy software analysis program, demonstrating that, after taking into account service provided by other CBS stations, all of the population located within WRGB's original post-DTV transition channel 6 noise limited contour will continue to receive CBS service, except for 30 people, a number the Commission considers de minimis. As the Bureau explained in the NPRM, it used the technical parameters of WRGB's original post-transition digital channel 6 facility (File No. BPCDT-20080307AAK) in determining any predicted loss which may occur.

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communication Commission.
Thomas Horan,
Chief of Staff, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(i), amend the Post-Transition Table of DTV Allotments, under New York, by revising the entry for Schenectady to read as follows:

§ 73.622 Digital television table of allotments.

* * * * *

(i) * * *

Community | Channel No.
* * * * *
NEW YORK
* * * * *
Schenectady | * 34, 35, 43
* * * * *

[FR Doc. 2021-13812 Filed 6-28-21; 8:45 am]

BILLING CODE 6712-01-P